DEPARTMENT OF ENERGY

Federal Energy Regulatory Commission

[Docket No. AD09-9-000]

Small Hydropower Development in the United States; Notice Granting Extension of Time To Provide Comments

December 10, 2009.

On December 2, 2009, the Federal Energy Regulatory Commission held a Commissioner-led technical conference to explore issues related to licensing small non-federal hydropower projects in the United States. At the conference, Commission staff set January 4, 2010, as the due date for filing any written comments about small hydropower issues with the Commission. On December 4, 2009, American Rivers and the National Hydropower Association (NHA) filed a joint motion, requesting that the Commission extend the comment due date to February 4, 2010. In their filing, American Rivers and the NHA state that the additional time will allow for the submission of thoughtful and more detailed comments.

Upon consideration, notice is hereby given that an extension of time for all interested entities to file comments is granted to and including February 4, 2010.

Kimberly D. Bose,
Secretary.

[FR Doc. E9-29927 Filed 12-15-09; 8:45 am]

BILLING CODE 6717-01-P